DEPARTMENT OF COMMERCE

National Oceanic and Atmospheric Administration

National Sea Grant Advisory Board; Meeting

AGENCY: National Sea Grant Advisory Board (NSGAB), National Oceanic and Atmospheric Administration (NOAA), Department of Commerce.

ACTION: Notice of public meeting.

SUMMARY: This notice sets forth the schedule and proposed agenda of a forthcoming meeting of the Board. Board members will discuss and provide advice on the National Sea Grant College Program (NSGCP) in the areas of program evaluation, strategic planning, education and extension, science and technology programs, and other matters as described in the agenda found on the National Sea Grant College Program Web site at http://seagrant.noaa.gov/WhoWeAre/Leadership/NationalSeaGrantAdvisoryBoard/UpcomingAdvisoryBoardMeetings.aspx.

Time and Dates: The announced meeting is scheduled for Monday, March 6, 2017 from 9:00 a.m. to 5:00 p.m. EST, and Tuesday, March 7, 2017 from 8:30 a.m. to 12:00 p.m. EST.

ADDRESSES: The meeting will be held at the Washington Plaza Hotel at 10 Thomas Circle NW., Washington, DC 20005.

FOR FURTHER INFORMATION CONTACT: For any questions concerning the meeting, please contact Ms. Mary Ann Garlic, National Sea Grant College Program, National Oceanic and Atmospheric Administration, 1315 East-West Highway, SSMC 3, Room 11717, Silver Spring, Maryland 20910, or Maryann.Garlic@noaa.gov. If you need additional assistance, call 301-734-1088.

Status: The meeting will be open to public participation with a 15-minute public comment period on Tuesday, March 7, 2017 at 11:00 a.m. Check the agenda on the Web site to confirm time.

Matters To Be Considered: The Board expects that public statements presented at its meetings will not be repetitive of previously submitted verbal or written statements.

In general, each individual or group making a verbal presentation will be limited to a total time of three (3) minutes. Written comments should be received by Ms. Mary Ann Garlic using the methods under the FOR FURTHER INFORMATION CONTACT section by Monday, February 27, 2017 to provide sufficient time for the Board review. Comments received after the deadline will be distributed to the Board, but may not be reviewed prior to the meeting date. Seats will be available on a first-come, first-serve basis.

Special Accomodations: These meetings are physically accessible to people with disabilities. Requests for sign language interpretation or other auxiliary aids should be directed to Ms. Mary Ann Garlic using the methods under the FOR FURTHER INFORMATION CONTACT section by Monday, February 20, 2017.

SUPPLEMENTARY INFORMATION: The Board, which consists of a balanced representation from academia, industry, state government and citizens groups, was established in 1976 by Section 209 of the Sea Grant Improvement Act (Pub. L. 94-461, 33 U.S.C. 1128). The Board advises the Secretary of Commerce and the Director of the National Sea Grant College Program with respect to operations under the Act, and such other matters as the Secretary refers to them for review and advice.

The agenda for this meeting will be available at: http://seagrant.noaa.gov/WhoWeAre/Leadership/NationalSeaGrantAdvisoryBoard/UpcomingAdvisoryBoardMeetings.aspx.

Dated: February 14, 2017.
Paul Johnson,
Acting Deputy Chief Financial Officer/CAO, Office of Oceanic and Atmospheric Research, National Oceanic and Atmospheric Administration.

[FR Doc. 2017-03345 Filed 2-17-17; 8:45 am]

BILLING CODE 3510-KA-P